DEPARTMENT OF THE INTERIOR

Bureau of Land Management

[NV-930-1430-EU; N-76579

Notice of Realty Action: Segregation Terminated, Direct Sale of Public Lands, Nye County, NV

AGENCY: Bureau of Land Management, Interior.

ACTION: Notice of realty action.

SUMMARY: The following described lands in Amargosa Valley, Nye County, Nevada, have been examined and found suitable for sale utilizing direct sale procedures.

DATES: Comments must be submitted by December 12, 2003.

ADDRESSES: Bureau of Land Management, Tonopah Field Station, 1553 South Main Street, Post Office Box 911, Tonopah, Nevada 89049.

FOR FURTHER INFORMATION CONTACT: Wendy Seley, Realty Specialist, at the above address or at (775) 482-7806.

SUPPLEMENTARY INFORMATION: The following described lands are appraised at no less than the fair market value (FMV) of $144,000.00:

Mount Diablo Meridian, Nevada,

T. 17 S., R. 49 E., sec. 9, SW¼SE¼;

sec 10, SE¼NE¼, SE¼NW¼;

Totaling 120 acres more or less.

This land is being offered for direct sale to Rockview Farms, Ponderosa Dairy. The lands are being offered through direct sale, pursuant to 43 CFR 2711.3-3(a)(5), to resolve inadvertent unauthorized use and development.

The subject lands were segregated for exchange purposes on October 1, 1997 under serial number N-61968. The exchange segregation on the subject lands will be terminated and replaced with the segregation for sale described in this notice. The segregation for exchange purposes is being terminated in order to allow for sale. Authority for the sale is Section 203 and Section 209 of the Federal Land Policy and Management Act of October 21, 1976 (43 U.S.C. 1701, 1713, 1719). The above-described lands are hereby classified for disposal in accordance with section 7 of the Taylor Grazing Act, 43 U.S.C. 315f, Act of June 28, 1934, as amended, and Executive Order 6910. The patent, when issued, will contain the following reservations to the United States:

1. A right-of-way thereon for ditches and canals constructed by authority of the United States, Act of August 30, 1890 (43 U.S.C. 945).

2. Oil, gas, geothermal, mineral materials under the 1947 Materials Act and Public Law 167, and the right to prospect and mine for such materials.

3. Subject to valid existing rights.

The purchaser/patentee, by accepting patent, agrees to indemnify, defend, and hold the United States harmless from any costs, damages, claims, causes of action, penalties, fines, liabilities, and judgments of any kind arising from the past, present or future acts or omissions of the patentee, its employees, agents, contractors, or lessees, or any third-party arising out of or in connection with the patentee's use and/or occupancy of the patented real property resulting in: (1) Violations of Federal, State, and local laws and regulations that are now or in the future become, applicable to the real property; (2) Judgments, claims or demands of any kind assessed against the United States; (3) Costs, expenses, or damages of any kind incurred by the United States; (4) Releases or threatened releases of solid or hazardous waste(s) and/or hazardous substance(s), as defined by Federal or State environmental laws, off, on, into or under land, property, and other interests of the United States; (5) Other activities by which solid or hazardous substances or wastes, as defined by Federal and State environmental laws are generated, released, stored, used, or otherwise disposed of on the patented real property, and any cleanup response, remedial action or other actions related in any manner to said solid or hazardous substances or wastes; or (6) Natural resource damages as defined by Federal and State laws. This covenant shall be construed as running with the patented real property and may be enforced by the United States in a court of competent jurisdiction.

No warranty of any kind shall be given or implied as to the potential use of the land offered for sale. It is the buyer's responsibility to be aware of all applicable local government policies and regulations that would affect the subject lands. It is also the buyer's responsibility to be aware of existing or prospective uses of nearby properties. The sale parcel is currently without legal access. Any land lacking access from a public road or highway is conveyed as such. Future acquisition of access is the responsibility of the buyer. In the event of a sale, the unreserved mineral interest will be conveyed simultaneously with the sale of the land. The remaining unreserved mineral interests have no known mineral value. Acceptance of the sale offer will constitute an application for conveyance of those unreserved mineral interests. The purchaser will be required to pay a $50.00 non-refundable filing fee for conveyance of the available mineral interests. The purchaser will have 30 days from the date of receiving the sale offer to accept the offer and submit a deposit of 30 percent of the purchase price, the $50.00 filing fee for the conveyance of mineral interests, and for payment of publication costs. The purchaser must remit the remainder of the purchase price within 180 days from the date the sale offer is received. Payments must be by certified check, postal money order, bank draft or cashier's check, payable to U.S. Department of the Interior—BLM. Failure to meet conditions established for this sale will void the sale and any monies received will be forfeited.

This parcel of land located in Amargosa Valley, Nevada, is being offered for sale through direct sale procedures. The adjacent land uses, unauthorized agricultural development, and general location of the subject parcels make these tracts of land difficult and uneconomic to manage as part of the public lands. As such, these lands meet the criteria found under 43 CFR 2710.0-3(a)(3). The proposed action is consistent with the objectives, goals, and decisions of the Las Vegas Resource Management Plan. An appraisal report has been prepared by a certified appraiser for the purposes of establishing fair market value (FMV). The appraisal report is available for review at the address shown above.

Publication of this Notice in the Federal Register segregates the subject lands from all appropriations under the public land laws, including the general mining laws, except sale under the Federal Land Policy and Management Act of 1976. The segregation will terminate upon issuance of the patent or on July 26, 2004, whichever occurs first.

For a period until December 12, 2003, interested parties may submit comments to the Tonopah Field Station Manager at the above address. Any adverse comments will be reviewed by the State Director, who may sustain, vacate, or modify this realty action and issue a final determination. In the absence of timely filed objections this realty action will become the final determination of the Department of the Interior. The land will not be offered for sale until December 29, 2003.

Dated: September 18, 2003.
William S. Fisher,
Assistant Field Manager, Tonopah.

[FR Doc. 03-27001 Filed 10-27-03; 8:45 am]

BILLING CODE 4310-HC-M